DEPARTMENT OF DEFENSE

Department of Navy

Notice of Availability of Government-Owned Inventions; Available for Licensing

AGENCY: Department of the Navy, DOD.

ACTION: Notice.

SUMMARY: The inventions listed below are assigned to the United States Government as represented by the Secretary of the Navy and are available for licensing by the Department of the Navy. U.S Patent Number 6,233,740 entitled “Aircrew Integrated Recovery Survival Vest”, Navy Case Number 79737, Inventors Meyers et al., Issue date May 22, 2001/U.S. Patent Number 6,485,142 entitled “Artificial Human Eye and Test Apparatus”, Navy Case Number 75094, Inventors Sheehy et al., Issued date November 26, 2002/ U.S. Patent Number 6,598,802 entitled “Effervescent Liquid Fine Mist Apparatus and Method”, Navy Case Number 83122, Inventor Wolfe, Issue date July 29, 2003/ U.S. Patent Number 6,240,742 entitled “Modular Portable Air Conditioning System”, Navy Case Number 79780, Inventor Kaufman, Issue date June 05, 2001/ U.S. Patent Number 6,241,164 entitled “Effervescent Liquid Fine Mist Apparatus and Method”, Navy Case Number 82406, Inventor Wolfe, Issue date June 05, 2001/ U.S. Patent Number 6,669,764 entitled “Pretreatment for Aluminum and Aluminum Alloys”, Navy Case 84378, Inventors Matzdorf et al., Issue date December 30, 2003/ U.S. Patent Number 6,663,700 entitled “Post-treatment for Metal Coated Substrates”, Navy Case Number 84379, Inventors Matzdorf et al., Issue date December 16, 2003/ Navy Case Number 95892 entitled “Improved Corrosion Resistant Seal for Phosphoric Acid Anodize Coatings on Aluminum and its Alloys”, Inventors Matzdorf et al., Dated September 20, 2003/ Navy Case Number 96346 entitled “Trivalent Chromium Conversion Coatings for Ferrous Alloys”, Inventors Matzdorf et al., Dated April 15, 2004/ Navy Case Number 96347 entitled “Trivalent Chromium Conversion Coatings for Magnesium Alloys”, Inventor Matzdorf et al., Date April 15, 2004/ Navy Case Number 96343 entitled “Trivalent Chromium/Zirconium Coatings for use on Metal Substrates, Masking Agents, Buffers, Solution Stabilizers, Inventors Matzdorf et al., Dated April 15, 2004/ Navy Case Number 97039 entitled “High-Performance, Thin-Film Protective Coatings for Aluminum”, Inventors Matzdorf et al., Dated December 14, 2004.

ADDRESSES: Request for data, samples, and inventor interviews should be directed to Mr. David Weston, 406-994-7477, dweston@montana.edu, or Mr. Dan Swanson, 406-994-7736, dds@montana.edu, TechLink, 900 Technology Blvd, Suite A, Bozeman, MT 59718. TechLink is an authorized DOD Partnership Intermediary.

DATES: Request for data, samples, and inventor interviews should be made prior to 1 July 2005.

FOR FURTHER INFORMATION CONTACT: Mr. Hans Kohler, Office of Research and Technology Applications, Building 150/2, Naval Air Warfare Center Aircraft Div, Lakehurst, NJ 08733-5060, 732-323-2948, Hans.Kohler@navy.mil or Mr. Paul Fritz, Office of Research and Technology Applications, Building 304, Room 107, Naval Air Warfare Center Aircraft Div, 22541 Millstone Rd, Patuxent River, MD 20670, 301-342-5586, Paul.Fritz@navy.mil.

SUPPLEMENTARY INFORMATION: The U.S. Navy intends to move expeditiously to license these inventions. Licensing application packages are available from TechLink and all applications and commercialization plans must be returned to TechLink by 15 August 2005. TechLink will turn over all complete applications to the U.S. Navy for evaluation, final negotiations, and award during the month of September 2005.

The U.S. Navy, in its decisions concerning the granting of licenses, will give special consideration to existing licensee's, small business firms, and consortia involving small business firms. The U.S. Navy intends to ensure that its licensed inventions are broadly commercialized throughout the United States.

PCT applications may be filed for each of the patents as noted above. The U.S. Navy intends that licensees interested in a license in territories outside of the United States will assume foreign prosecution and pay the cost of such prosecution.

Authority: (35 U.S.C. 207, 37 CFR Part 404.)

Dated: June 8, 2005.
I. C. Le Moyne Jr.,
Lieutenant, Judge Advocate General's Corps, U. S. Navy, Alternate Federal Register Liaison Officer.

[FR Doc. 05-11932 Filed 6-16-05; 8:45 am]

BILLING CODE 3810-FF-P